DEPARTMENT OF ENERGY

Federal Energy Regulatory Commission

[Docket No. CP19-500-000]

Northern Natural Gas Company; Notice of Application

Take notice that on August 15, 2019, Northern Natural Gas Company (Northern), 1111 South 103rd Street, Omaha, Nebraska 68124, filed in Docket No. CP19-479-000 an application pursuant to section 7 of the Natural Gas Act (NGA) and Part 157 of the Commission's Regulations, requesting authorization to (1) abandon in-place Northern's A-line located in Otoe, Lancaster, Saunders, Dodge, Burt, Thurston, and Dakota counties, Nebraska, and (2) construct and operate pipeline loops consisting of approximately 4.2 miles of 24-inch-diameter pipeline and associated appurtenances in Otoe and Dodge counties, Nebraska. On August 28, 2019, Northern submitted supplemental information clarifying the separate utility of this project to other Northern projects filed or to be filed with the Commission. Details of this project are more fully set forth in the application which is on file with the Commission and open to public inspection.

The filings may also be viewed on the web at http://www.ferc.gov using the “eLibrary” link. Enter the docket number excluding the last three digits in the docket number field to access the documents. For assistance, please contact FERC Online Support at FERCOnlineSupport@ferc.gov or toll free at (866) 208-3676, or TTY, contact (202) 502-8659.

Any questions concerning this application may be directed to Michael T. Loeffler, Senior Director, Certificates and External Affairs, Northern Natural Gas Company, 1111 South 103rd Street, Omaha, Nebraska 68124, or by calling (402) 398-7103.

Specifically, Northern proposes to

(1) abandon in place a total of approximately 44.2 miles of 20-inch-diameter pipeline and approximately 14.8 miles of 16-inch-diameter pipeline on Northern's M581A pipeline system and 58.7 miles of 16-inch-diameter pipeline on the M570A pipeline system (collectively referred to as the A-line) from Northern's Palmyra compressor station near Palmyra, Nebraska, to Northern's Dakota County launcher site near South Sioux City, Nebraska; and

(2) construct and operate

(a) approximately 1.7 miles of new 24-inch-diameter natural gas pipeline loop, with pig launcher and receiver and valve sites, from Northern's existing Palmyra compressor station to a tie-in with its existing C-line in Otoe County, Nebraska; and

(b) 2.5 miles of a new 24-inch-diameter natural gas pipeline loop, with a pig launcher and valve sites, from Northern's existing Fremont compressor station to a tie-in with its existing C-line in Dodge County, Nebraska.

The cost to construct the proposed Palmyra North D-line and the Fremont North D-line loops is estimated at $19,468,116.

Pursuant to section 157.9 of the Commission's rules (18 CFR 157.9), within 90 days of this Notice, the Commission staff will either: complete its environmental assessment (EA) and place it into the Commission's public record (eLibrary) for this proceeding or issue a Notice of Schedule for Environmental Review. If a Notice of Schedule for Environmental Review is issued, it will indicate, among other milestones, the anticipated date for the Commission staff's issuance of the final environmental impact statement (FEIS) or EA for this proposal. The filing of the EA in the Commission's public record for this proceeding or the issuance of a Notice of Schedule will serve to notify federal and state agencies of the timing for the completion of all necessary reviews, and the subsequent need to complete all federal authorizations within 90 days of the date of issuance of the Commission staff's FEIS or EA.

There are two ways to become involved in the Commission's review of this project. First, any person wishing to obtain legal status by becoming a party to the proceedings for this project should, on or before the comment date stated below, file with the Federal Energy Regulatory Commission, 888 First Street NE, Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit five copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

As of the February 27, 2018 date of the Commission's order in Docket No. CP16-4-001, the Commission will apply its revised practice concerning out-of-time motions to intervene in any new Natural Gas Act section 3 or section 7 proceeding. Persons desiring to become a party to a certificate proceeding are to intervene in a timely manner. If seeking to intervene out-of-time, the movant is required to “show good cause why the time limitation should be waived,” and should provide justification by reference to factors set forth in Rule 214(d)(1) of the Commission's Rules and Regulations.

The Commission strongly encourages electronic filings of comments, protests and interventions in lieu of paper using the eFiling link at http://www.ferc.gov. Persons unable to file electronically should submit original and five copies of the protest or intervention to the Federal Energy Regulatory Commission, 888 First Street NE, Washington, DC 20426.

Comment Date: 5:00 p.m. Eastern Time on September 19, 2019.

Dated: August 29, 2019.
Nathaniel J. Davis, Sr.,
Deputy Secretary.

[FR Doc. 2019-19133 Filed 9-4-19; 8:45 am]

BILLING CODE 6717-01-P